DEPARTMENT OF AGRICULTURE

Forest Service

Information Collection; Request for Comments; Perceived and Realized Health Benefits of Urban Proximate and Distant Recreation Lands

AGENCY: Forest Service, USDA.

ACTION: Notice.

SUMMARY: In accordance with the Paperwork Reduction Act of 1995, the Forest Service is seeking comments from all interested individuals and organizations on the new information collection, Perceived and Realized Health Benefits of Urban Proximate and Distant Recreation Lands.

DATES: Comments must be received in writing on or before February 28, 2004 to be assured of consideration. Comments received after that date will be considered to the extent practicable.

ADDRESSES: Comments concerning this notice should be addressed to Dr. Deborah Chavez, Pacific Southwest Research Station, Forest Service, USDA, 4955 Canyon Crest Drive, Riverside, CA 92507.

Comments also may be submitted via facsimile to (951) 680-1501 or by e-mail to dchavez@fs.fed.us.

The public may inspect comments received at Pacific Southwest Research Station, 4955 Canyon Crest Drive, Riverside, California, during normal business hours. Visitors are encouraged to call ahead to (951) 680-1558 to facilitate entry to the building.

FOR FURTHER INFORMATION CONTACT: Dr. Deborah Chavez, Pacific Southwest Research Station at (951) 680-1558. Individuals who use telecommunication devices for the deaf (TDD) may call the Federal Relay Service (FRS) at 1-800-877-8339 twenty-four hours a day, every day of the year, including holidays.

SUPPLEMENTARY INFORMATION: Title: Perceived and Realized Health Benefits of Urban Proximate and Distant Recreation Lands.

OMB Number: 0596-New.

Expiration Date of Approval: N/A.

Type of Request: New.

Abstract: In June 2002, President Bush issued Executive Order (E.O.) 13266 for the purpose of improving the health of all Americans. Physical activity was one of the four health-protection pillars, and part of this E.O. encouraged federal agencies to promote physical activity on public lands.

Users of urban public lands come from a variety of ethnic, racial, income, age, educational, and other socio-demographic backgrounds. The activities pursued, health benefits realized, information sources utilized, and site attributes preferred are just some of the items affected by these differences.

The collected information will enable Forest Service personnel to more effectively manage recreation areas for the encouragement and promotion of potential physical health benefits. The collected information also will provide information on visitor characteristics, such as educational level, race, ethnicity, and gender, and communication, such as preferred language at home, and for radio, television, and newspapers.

Data will be collected using on-site surveys from visitors to urban parks and more distant watershed sites in or within an hour's drive of Los Angeles, California; Minneapolis-St. Paul, Minnesota; and Chicago, Illinois. Subjects will be contacted by Forest Service research personnel; cooperators at the University of Minnesota, Department of Forest Resources and Tourism Center; the University of Illinois, Department of Leisure Studies; and park research staff site collaborators at Hawkins Park in California.

Respondents will be asked to answer questions on the following topics: Area visitation history and patterns; activity patterns; site amenities and characteristics; constraints to more frequent visitation, such as physical health; and demographics. The data will be analyzed by Forest Service research personnel and cooperators at the University of Minnesota, Department of Forest Resources and Tourism Center, and the University of Illinois, Department of Leisure Studies.

Estimate of Annual Burden: 10 minutes.

Type of Respondents: Visitors to urban parks and more distant watershed sites within an hour's drive of Los Angeles, California; Minneapolis-St. Paul, Minnesota; and Chicago, Illinois.

Estimated Annual Number of Respondents: 2,700.

Estimated Annual Number of Responses per Respondent: 1.

Estimated Total Annual Burden on Respondents: 450 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the submission request for Office of Management and Budget approval.

Dated: November 22, 2004.
Barbara C. Weber,
Associate Deputy Chief, State and Private Forestry.

[FR Doc. 04-28243 Filed 12-27-04; 8:45 am]

BILLING CODE 3410-11-P